ENVIRONMENTAL PROTECTION AGENCY

40 CFR Parts 174 and 180

[EPA-HQ-OPP-2021-0088; FRL-8792-01-OCSPP]

Receipt of Pesticide Petitions Filed for Residues of Pesticide Chemicals in or on Various Commodities (July 2021)

AGENCY: Environmental Protection Agency (EPA).

ACTION: Notices of filing of petitions and request for comment.

SUMMARY: This document announces the Agency's receipt of initial filings of pesticide petitions requesting the establishment or modification of regulations for residues of pesticide chemicals in or on various commodities.

DATES: Comments must be received on or before September 2, 2021.

ADDRESSES: Submit your comments, identified by docket identification (ID) number and the pesticide petition (PP) of interest as shown in the body of this document, online at http://www.regulations.gov. Follow the online instructions for submitting comments. Do not submit electronically any information you consider to be Confidential Business Information (CBI) or other information whose disclosure is restricted by statute. Additional instructions on commenting or visiting the docket, along with more information about dockets generally, is available at http://www.epa.gov/dockets.

Due to the public health concerns related to COVID-19, the EPA/DC and Reading Room is closed to visitors with limited exceptions. The staff continues to provide remote customer service via email, phone, and webform. For the latest status information on the EPA/DC and docket access, visit https://www.epa.gov/dockets.

FOR FURTHER INFORMATION CONTACT: Marietta Echeverria, Registration Division (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing receipt of pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain data or information prescribed in FFDCA section 408(d)(2), 21 U.S.C. 346a(d)(2); however, EPA has not fully evaluated the sufficiency of the submitted data at this time or whether the data supports granting of the pesticide petitions. After considering the public comments, EPA intends to evaluate whether and what action may be warranted. Additional data may be needed before EPA can make a final determination on these pesticide petitions.

Pursuant to 40 CFR 180.7(f), summaries of the petitions that are the subject of this document, prepared by the petitioners, are included in dockets EPA has created for these rulemakings. The dockets for these petitions are available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

Notice of Filing—Amended Tolerance Exemptions for Inerts (Except PIPs)

IN-11547. (EPA-HQ-OPP-2021-0383). CH Biotech R&D Co., Ltd. (601 Kettering Drive, Ontario, CA 91761) requests to amend an exemption from the requirement of a tolerance for residues of L-Glutamic Acid (LGA); (2S)-2-Aminopentanedioic Acid (CAS Reg. No. 56-86-0) when used as an inert ingredient (nutrient) in pesticide formulations applied on crops pre-harvest according to 40 CFR part 180.920, at a limit of not more than 6% by weight in pesticide formulations. The petitioner believes no analytical method is needed because it is not required for an exemption from the requirement of a tolerance. Contact: RD.

New Tolerance Exemptions for Inerts (Except PIPS)

IN-11506. (EPA-HQ-OPP-2021-0364). Exponent, Inc. (1150 Connecticut Ave, Suite 1100, Washington, DC 20036) on behalf of Lamberti USA, Incorporated (P.O. Box 1000 Hungerford, TX 77448) requests to establish an exemption from the requirement of a tolerance for residues of fatty acids, tall-oil, esters with triethanolamine, ethoxylated (CAS Reg. No. 68605-38-9) and fatty acids, C8-18 and C18-unsatd., esters with polyethylene glycol ether with triethanolamine (3:1) (CAS Reg. No. 2464873-19-4) when used as inert ingredients (surfactants) in pesticide formulations applied on crops pre- and post-harvest according to 40 CFR part 180.910. The petitioner believes no analytical method is needed because it is not required for an exemption from the requirement of a tolerance. Contact: RD.

New Tolerances For Non-Inerts

PP 0F8863 & 0E8866. (EPA-HQ-OPP-2021-0191). Syngenta Crop Protection, LLC 410 Swing Road Greensboro, NC 27419, requests to establish a tolerance in 40 CFR part 180 for residues of the fungicide difenoconazole in or on: Avocado at 0.15 parts per million (ppm); Caneberry subgroup 13-07A, at 3.0 ppm; Corn, field, grain at 0.015 ppm; Corn, field, stover at 10.0 ppm; Corn, field, forage at 3.0 ppm; Grain, aspirated fractions at 0.7 ppm; Corn, field, milled byproducts at 0.3 ppm; Corn, field, refined oil at 0.02 ppm; Corn, field, gluten meal at 0.05 ppm; Corn, pop, forage at 3.0 ppm; Corn, pop, grain at 0.01 ppm; Corn, pop, stover at 15 ppm; Corn, sweet, cannery waste at 0.03 ppm; Corn, sweet, ear at 0.01 ppm; Corn, sweet, forage at 15 ppm; Corn, sweet, stover at 15 ppm; Peanut, nutmeat at 0.01 ppm; Peanut hay at 20 ppm. The gas chromatography equipped with a nitrogen-phosphorous detector is used to measure and evaluate the chemical 1-[2-[2-chloro-4-(4-chlorophenoxy)phenyl]-4-methyl-1,3-dioxolan-2-ylmethyl]-1H-1,2,4-triazole. Contact: RD.

Authority: 21 U.S.C. 346a.

Dated: July 21, 2021.
Delores Barber,
Director, Information Technology and Resources Management Division, Office of Program Support.

[FR Doc. 2021-16333 Filed 8-2-21; 8:45 am]

BILLING CODE 6560-50-P